NUCLEAR REGULATORY COMMISSION

[Docket No. 50-458; NRC-2017-0141]

Entergy Operations, Inc.; River Bend Station, Unit 1

AGENCY: Nuclear Regulatory Commission.

ACTION: License renewal application; receipt.

SUMMARY: The U.S. Nuclear Regulatory Commission (NRC) has received an application for the renewal of operating license NPF-47, which authorizes Entergy Operations, Inc. (the applicant) to operate River Bend Station, Unit 1 (RBS). The renewed license would authorize the applicant to operate RBS for an additional 20-year period beyond the period specified in the current license. The current operating license for RBS expires at midnight on August 29, 2025.

DATES: The license renewal application referenced in this document was available on June 2, 2017.

ADDRESSES: Please refer to Docket ID NRC-2017-0141 when contacting the NRC about the availability of information regarding this document. You may obtain publicly-available information related to this document using any of the following methods:

• Federal Rulemaking Web site: Go to http://www.regulations.gov and search for Docket ID NRC-2017-0141. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The license renewal application for RBS is available in ADAMS under Package Accession No. ML17153A282.

• NRC's PDR: You may examine and purchase copies of public documents at the NRC's PDR, Room O1-F21, One White Flint North, 11555 Rockville Pike, Rockville, Maryland 20852.

FOR FURTHER INFORMATION CONTACT: Emmanuel Sayoc, Office of Nuclear Reactor Regulation, U.S. Nuclear Regulatory Commission, Washington, DC 20555-0001; telephone: 301-415-4084; email: Emmanuel.Sayoc@nrc.gov.

SUPPLEMENTARY INFORMATION: The NRC has received an application from Entergy Operations, Inc., dated May 25, 2017, filed pursuant to Section 103 of the Atomic Energy Act of 1954, as amended, and part 54 of title 10 of the Code of Federal Regulations, to renew the operating license for RBS. Renewal of the license would authorize the applicant to operate the facility for an additional 20-year period beyond the period specified in the current operating license. The current operating license for RBS expires at midnight on August 29, 2025. River Bend Station, Unit 1, is a boiling water reactor designed by General Electric and is located in St. Francisville, Louisiana. The acceptability of the tendered application for docketing, and other matters, including an opportunity to request a hearing, will be the subject of subsequent Federal Register notices.

A copy of the license renewal application for the RBS, is also available to local residents near the site at the West Feliciana Parish Library at 5114 Burnett Rd., St. Francisville, LA 70775.

Dated at Rockville, Maryland, this 19th day of June, 2017.
For the Nuclear Regulatory Commission.
Sheldon Stuchell,
Chief, Projects Management and Guidance Branch, Division of License Renewal, Office of Nuclear Reactor Regulation.

[FR Doc. 2017-13518 Filed 6-27-17; 8:45 am]

BILLING CODE 7590-01-P